DEPARTMENT OF JUSTICE

Immigration and Naturalization Service

8 CFR Part 234

[INS No. 2045-00]

RIN 1115-AF72

Landing Requirements for Passengers Arriving From Cuba

AGENCY: Immigration and Naturalization Service, Justice.

ACTION: Final rule.

SUMMARY: This rule amends the Immigration and Naturalization Service (Service) regulations by providing that aircraft and passengers arriving in the United States from Cuba must enter the United States at either the John F. Kennedy International Airport, Jamaica, New York, Los Angeles International Airport, Los Angeles, California or the Miami International Airport, Miami, Florida unless advance permission to land elsewhere has been obtained from the Office of Field Operations at Headquarters.

This rule is necessary to facilitate licensed travel to and from Cuba, including family reunification for Cuban resident aliens and United States citizens of Cuban heritage living in U.S. cities other than in South Florida.

DATES: This rule is effective October 3, 2000.

FOR FURTHER INFORMATION CONTACT: Elizabeth A. Tisdale, Assistant Chief Inspector, Immigration and Naturalization Service, 425 I Street, NW., Room 4064, Washington, DC 20536, telephone number (202) 514-0912.

SUPPLEMENTARY INFORMATION:

What Are the Present Requirements Regarding the Location and Inspection of Flights From Cuba?

Section 234.2(a) provides that:

• Aircraft carrying passengers or crew who are required to be inspected under section 235 of the Immigration and Nationality Act (Act) on flights originating in Cuba shall land only at Fort Lauderdale-Hollywood Airport, Fort Lauderdale, Florida, unless

• Advance permission to land elsewhere has been obtained from the District Director of the Immigration and Naturalization Service at Miami, Florida.

Why Are Flights From Cuba Being Allowed To Land at Other Airports?

In a statement issued on January 5, 1999, the President announced a series of humanitarian measures designed to reach out to and ease the plight of the Cuban people and to help them prepare for a democratic future. As one of these measures, the President authorized the restoration of flights between Cuba and some cities in the United States in addition to South Florida. The purpose of this measure is to facilitate licensed travel to and from Cuba, including family reunification for Cuban resident aliens and U.S. citizens of Cuban heritage living in the United States cities other than in the Miami/Fort Lauderdale area.

What Airports Are Being Designated Under This Rule?

Section 235.2(a) is being amended to allow direct flights from Cuba to land at:

• John F. Kennedy International Airport, Jamaica, New York,

• Los Angeles International Airport, Los Angeles California, or

• Miami International Airport, Miami, Florida.

Will Flights From Cuba Be Allowed To Land at Any Other Airports in the United States, Particularly Fort Lauderdale?

No, direct flights will not be allowed to land at any other airport in the United States, including Fort Lauderdale, unless advance permission to land elsewhere has been obtained from the Office of Field Operations at Headquarters.

Have Other Agencies Acted on the President's Announcement?

The Department of State and the National Security Council have specifically directed that direct charter passenger flights by persons who possess a valid Office of Foreign Assets Control Carrier Service Provider authorization may operate between Cuba and John F. Kennedy International Airport, Jamaica, New York, Los Angeles International Airport, Los Angeles, California, or Miami International Airport, Miami, Florida.

The United States Customs Service amended its regulations at 19 CFR 122.153 and 122.154 to permit travel to the same three designated airports in a final rule published in the Federal Register on October 4, 1999, at 64 FR 53627.

Good Cause Exception

Pursuant to the provisions of 5 U.S.C. 553(a)(1), public notice and comment procedure is not applicable to this rule because this rule falls within the foreign affairs function of the United States. As previously noted, the rule implements a January 5, 1999, announcement by the President that direct passenger flights would be authorized to and from Cuba and other U.S. cities as part of a humanitarian effort designed to reach out and ease the plight of the Cuban people. Because this document is not subject to the requirements of 5 U.S.C. 553, delayed effective date requirements are not applicable.

Regulatory Flexibility Act

The Commissioner of the Immigration and Naturalization Service, in accordance with the Regulatory Flexibility Act (5 U.S.C. 605(b)), has reviewed this regulation and, by approving it, certifies that this rule will not have a significant economic impact on a substantial number of small entities. This rule affects individuals and families and is intended to facilitate licensed travel to and from Cuba.

Executive Order 12866

This rule is not considered by the Department of Justice, Immigration and Naturalization Service, to be a “significant regulatory action” under Executive Order 12866, section 3(f), Regulatory Planning and Review, and the Office of Management and Budget has waived its review process under section 6(a)(3)(A).

Executive Order 13132

This regulation will not have substantial direct effect on the States, on the relationship between the National Government and the States, or on the distribution of power and responsibilities among the various levels of government. Therefore, in accordance with section 6 of Executive Order 13132, it is determined that this rule does not have sufficient federalism implications to warrant the preparation of a federalism summary impact statement.

Unfunded Mandates Reform Act of 1995

This rule will not result in the expenditure by State, local and tribal governments in the aggregate, or by the private sector, of $100 million or more in any one year, and it will not significantly or uniquely affect small governments. Therefore, no actions were deemed necessary under the provisions of the Unfunded Mandates Reform Act of 1995.

Small Business Regulatory Enforcement Fairness Act of 1996

This rule is not a major rule as defined by section 804 of the Small Business Regulatory Enforcement Fairness Act of 1996. This rule will not result in an annual effect on the economy of $100 million or more; a major increase in costs or prices; or significant adverse effects on competition, employment, investment, productivity, innovation, or on the ability of United States-based companies to compete with foreign-based companies in domestic and export markets.

Executive Order 12988, Civil Justice Reform

This rule meets the applicable standards set forth in sections 3(a) and 3(b)(2) of Executive Order 12988.

List of Subjects in 8 CFR Part 234

Administrative practice and procedure, Aliens Passports and visas.

Accordingly, part 234 of chapter I of title 8 of the Code of Federal Regulations is amended as follows:

PART 234—DESIGNATION OF PORTS OF ENTRY FOR ALIENS ARRIVING BY CIVIL AIRCRAFT

1. The authority citation for part 234 continues to read as follows;

Authority: 8 U.S.C. 1103, 1221, 1229; 8 CFR part 2.

2. In § 234.2, paragraph (a) is amended by revising the last sentence to read as follows:

§ 234.2 Landing requirements.

(a) * * * Notwithstanding the foregoing, aircraft carrying passengers and crew required to be inspected under the act on flights originating in Cuba shall land only at John F. Kennedy International Airport, Jamaica, New York; the Los Angeles International Airport, Los Angeles, California; or the Miami International Airport, Miami, Florida, unless advance permission to land elsewhere has been obtained from the Office of Field Operations at Headquarters.

* * * * *

Dated: March 28, 2000.
Doris Meissner,
Commissioner, Immigration and Naturalization Service.

[FR Doc. 00-25319 Filed 10-2-00; 8:45 am]

BILLING CODE 4410-10-M